DEPARTMENT OF ENERGY

Federal Energy Regulatory Commission

[Docket No. IC24-28-000]

Commission Information Collection Activities (FERC-523); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on a renewal of currently approved information collection, FERC-523 (Application for Authorization for the Issuance of Securities or the Assumption of Liabilities). There were no comments received on the 60-day notice that ended on November 12, 2024.

DATES: Comments on the collection of information are due December 26, 2024.

ADDRESSES: Send written comments on FERC-523 to OMB through www.reginfo.gov/public/do/PRAMain. Attention: Federal Energy Regulatory Commission Desk Officer. Please identify the OMB Control Number (1902-0043) in the subject line of your comments. Comments should be sent within 30 days of publication of this notice to www.reginfo.gov/public/do/PRAMain.

Please submit copies of your comments to the Commission. You may submit copies of your comments (identified by Docket No. IC24-28-000) by one of the following methods:

Electronic filing through https://www.ferc.gov, is preferred.

• Electronic Filing: Documents must be filed in acceptable native applications and print-to-PDF, but not in scanned or picture format.

• For those unable to file electronically, comments may be filed by USPS mail or by other delivery methods:

○ Mail via U.S. Postal Service Only: Federal Energy Regulatory Commission, Secretary of the Commission, 888 First Street NE, Washington, DC 20426.

○ All other delivery methods: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov/ferc-online/overview. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Kayla Willams may be reached by email at DataClearance@FERC.gov, telephone at (202) 502-6468.

SUPPLEMENTARY INFORMATION: Title: FERC-523, Application for Authorization for the Issuance of Securities or the Assumption of Liabilities.

OMB Control No.: 1902-0043.

Type of Request: Three-year approval of the FERC-523 information collection requirements with no changes to the current reporting requirements.

Abstract: The information collected by FERC-523 is required to implement the statutory provisions of section 204 of the Federal Power Act (FPA) (16 U.S.C. 824c). Under section 204 of the FPA, no public utility or licensee shall issue any security, or assume any obligation or liability as guarantor, endorser, surety, or otherwise in respect of any security of another person, until the public utility applies for and receives Commission approval by order authorizing the issuance or assumption of the liability. The Commission issues an order if it finds that such issuance or assumption (a) is for lawful object, within the corporate purposes of the applicant and compatible with the public interest, which is necessary or appropriate for or consistent with the proper performance by the applicant as a public utility, and which will not impair its ability to perform that service, and (b) is reasonably necessary or appropriate for such purposes.

The Commission uses the information contained in filings to determine its acceptance and/or rejection of applications for authorization to either issue securities or to assume an obligation or liability by the public utilities and licensees who submit these applications.

The specific application requirements and filing format are found at 18 CFR part 34, and 18 CFR 131.43 and 131.50. This information is filed electronically.

Type of Respondents: Public utilities subject to the Federal Power Act.

Estimate of Annual Burden ¹ and Cost: ² The Commission estimates the reduction in the annual public reporting burden for the FERC-523, as follows:

¹ Burden is defined as the total time, effort, or financial resources expended by persons to generate, maintain, retain, or disclose or provide information to or for a federal agency. For further explanation of what is included in the information collection burden, refer to 5 CFR 1320.3.

² Commission staff estimates that the industry's skill set and cost (for wages and benefits) for FERC-523 are approximately the same as the Commission's average cost. The FERC 2024 average salary plus benefits for one FERC full-time equivalent (FTE) is $207,786/year (or $100.00/hour).

FERC-523—Application for Authorization for Issuance of Securities or the Assumption of Liabilities
Number of respondents | Annual number of responses per respondent | Total number of responses | Average burden hrs. & cost ($) per response | Total annual burden hrs. & total annual cost ($) | Cost per respondent ($)
| (1) | (2) | (1) * (2) = (3) | (3) * (4) = (5) | (5) ÷ (1))
72 | 1 | 72 | 70 hrs.; $7,000 | 5,040 hrs.; $504,000 | $7,000

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: November 18, 2024.
Debbie-Anne A. Reese,
Secretary.

[FR Doc. 2024-27473 Filed 11-22-24; 8:45 am]

BILLING CODE 6717-01-P